DEPARTMENT OF AGRICULTURE

Animal and Plant Health Inspection Service

[Docket No. APHIS-2016-0035]

Notice of Affirmation of Addition of Treatments for Aircraft for Certain Hitchhiking Pests

AGENCY: Animal and Plant Health Inspection Service, USDA.

ACTION: Notice.

SUMMARY: We are affirming our earlier determination that is was necessary to immediately add two new treatment schedules for aircraft for regulated pests to the Plant Protection and Quarantine (PPQ) Treatment Manual. In a previous notice, we made available to the public for review and comment a treatment evaluation document that discussed the existing treatment schedules, described the new treatment schedules, and explained why these changes were immediately added to the PPQ Treatment Manual. Based on the treatment evaluation document and the comments we received, we are affirming the addition of those new treatments to the PPQ Treatment Manual.

DATES: The addition of the treatments is affirmed as of January 16, 2018.

FOR FURTHER INFORMATION CONTACT: Mr. George Balady, Senior Regulatory Policy Specialist, PPQ, APHIS, 4700 River Road Unit 133, Riverdale, MD 20737-1231; (301) 851-2240.

SUPPLEMENTARY INFORMATION: The regulations in 7 CFR chapter III are intended, among other things, to prevent the introduction or dissemination of plant pests and noxious weeds into or within the United States. Under the regulations, certain plants, fruits, vegetables, and other articles must be treated before they may be moved into the United States or interstate. The phytosanitary treatments regulations contained in part 305 of 7 CFR chapter III (referred to below as the regulations) set out standards for treatments required in parts 301, 318, and 319 of 7 CFR chapter III for fruits, vegetables, and other articles.

In § 305.2, paragraph (b) states that approved treatment schedules are set out in the Plant Protection and Quarantine (PPQ) Treatment Manual.¹ Section 305.3 sets out the processes for adding, revising, or removing treatment schedules in the PPQ Treatment Manual. In that section, paragraph (b) sets out the process for adding, revising, or removing treatment schedules when there is an immediate need to make a change. The circumstances in which an immediate need exists are described in § 305.3(b)(1). They are:

¹ The PPQ Treatment Manual is available at http://www.aphis.usda.gov/import_export/plants/manuals/index.shtml or by contacting the Animal and Plant Health Inspection Service, Plant Protection and Quarantine, Manuals Unit, 92 Thomas Johnson Drive, Suite 200, Frederick, MD 21702.

• PPQ has determined that an approved treatment schedule is ineffective at neutralizing the targeted plant pest(s).

• PPQ has determined that, in order to neutralize the targeted plant pest(s), the treatment schedule must be administered using a different process than was previously used.

• PPQ has determined that a new treatment schedule is effective, based on efficacy data, and that ongoing trade in a commodity or commodities may be adversely impacted unless the new treatment schedule is approved for use.

• The use of a treatment schedule is no longer authorized by the U.S. Environmental Protection Agency or by any other Federal entity.

In accordance with § 305.3(b)(2), we published a notice ² in the Federal Register on August 8, 2017 (82 FR 37042-37043, Docket No. APHIS-2016-0035), in which we announced the availability, for review and comment, of a treatment evaluation document (TED) we prepared to discuss the existing treatment schedules, describe the new treatment schedules, and explain why certain changes were immediately necessary.

² To view the notice, the TED, and the comments we received, go to http://www.regulations.gov/#!docketDetail;D=APHIS-2016-0035.

We solicited comments on the notice for 60 days ending on October 10, 2017. We received two comments by that date, from private citizens. Both commenters supported the addition of the treatment schedules.

Therefore, in accordance with the regulations in § 305.3(b)(3), we are affirming our addition of the two new treatment schedules (T409-a and T409-b-3) for aircraft for regulated pests to the PPQ Treatment Manual. The treatment schedules will be listed in the PPQ Treatment Manual, which is available as described in footnote 1.

Authority: 7 U.S.C. 7701-7772 and 7781-7786; 21 U.S.C. 136 and 136a; 7 CFR 2.22, 2.80, and 371.3.

Done in Washington, DC, on January 10, 2018.
Kevin Shea,
Administrator, Animal and Plant Health Inspection Service.

[FR Doc. 2018-00569 Filed 1-12-18; 8:45 am]

BILLING CODE 3410-34-P